DEPARTMENT OF COMMERCE

International Trade Administration

[A-351-605]

Frozen Concentrated Orange Juice from Brazil; Initiation of Changed Circumstances Antidumping Duty Administrative Review

AGENCY: Import Administration, International Trade Administration, Department of Commerce.

SUMMARY: The Department of Commerce (the Department) is initiating a changed circumstances administrative review of the antidumping duty order on frozen concentrated orange juice (FCOJ) from Brazil (see Notice of Antidumping Duty Order: Frozen Concentrated Orange Juice from Brazil (52 FR 16426, May 5, 1987)) in response to a request from Louis Dreyfus Citrus Inc., a U.S. importer of FCOJ from Brazil, COINBRA-Frutesp, S.A. (COINBRA-Frutesp), a manufacturer/exporter of FCOJ from Brazil, and the affiliated companies of the Louis Dreyfus group (collectively “Louis Dreyfus”). These entities have requested that the Department conduct a changed circumstances review to determine that COINBRA-Frutesp is the successor-in-interest to Coopercitrus Industrial Frutesp, S.A. (Frutesp), and as a result to find that FCOJ from Brazil manufactured and exported by COINBRA-Frutesp is not subject to the antidumping duty order on FCOJ from Brazil.

EFFECTIVE DATE: January 27, 2005.

FOR FURTHER INFORMATION CONTACT: Elizabeth Eastwood or Jill Pollack, Import Administration, International Trade Administration, U.S. Department of Commerce, 14th Street and Constitution Avenue, NW, Washington, DC 20230; telephone (202) 482-3874 and (202) 482-4593, respectively.

SUPPLEMENTARY INFORMATION:

Background:

On May 5, 1987, the Department published in the Federal Register an antidumping duty order on FCOJ from Brazil covering all Brazilian producers except Sucocitrico Cultrale, S.A. See Antidumping Duty Order; Frozen Concentrated Orange Juice from Brazil, 52 FR 16426 (May 5, 1987). On October 21, 1991, the Department revoked the antidumping duty order with regard to Frutesp. See Frozen Concentrated Orange Juice from Brazil; Final Results and Termination in Part of Antidumping Duty Administrative Review; Revocation in Part of Antidumping Duty Order, 56 FR 52510 (Oct. 21, 1991).

In 1993, Louis Dreyfus purchased the shares and assets of Frutesp, and the following year Frutesp changed its name to COINBRA-Frutesp.

On August 3, 2004, Louis Dreyfus informed the Department that it controls, through its member companies, all the assets of COINBRA-Frutesp. In this submission, Louis Dreyfus requested an expedited changed circumstances review to determine that FCOJ from Brazil manufactured by Louis Dreyfus or its affiliates and exported by COINBRA-Frutesp is not subject to the antidumping duty order on FCOJ from Brazil.

On September 17 and November 5, 2004, we requested additional clarification from Louis Dreyfus with respect to the companies that are the subject of its request for a changed circumstances review. On September 20 and November 15, 2004, Louis Dreyfus clarified that it is requesting that COINBRA-Frutesp be designated as the successor-in-interest to Frutesp. According to Louis Dreyfus, this action is necessary because on March 18, 2004, U.S. Customs and Border Protection (CBP) informed Louis Dreyfus that entries of FCOJ manufactured by COINBRA-Frutesp are, in fact, subject to the antidumping duty order on FCOJ, and CBP is currently requiring the payment of cash deposits on such merchandise. Louis Dreyfus asserts that the CBP had not required cash deposits on COINBRA-Frutesp's exports prior to that time.

Scope of the Review

The merchandise covered by this order is FCOJ from Brazil, and is currently classifiable under item 2009.11.00 of the Harmonized Tariff Schedule of the United States (HTSUS). The HTSUS item number is provided for convenience and customs purposes. The Department's written description of the scope of the review remains dispositive.

Initiation of Changed Circumstances Review

Pursuant to section 751(b)(1) of the Tariff Act of 1930, as amended (the Act), the Department will conduct a changed circumstances review upon request from an interested party or receipt of information concerning an antidumping duty order, when either of which shows changed circumstances sufficient to warrant a review of the order. Thus, in accordance with section 751(b) of the Act, the Department is initiating a changed circumstances review to determine whether COINBRA-Frutesp is the successor-in-interest to Frutesp for purposes of determining antidumping duty liability with respect to imports of FCOJ from Brazil produced and exported by COINBRA-Frutesp.

In making a successor-in-interest determination, the Department examines several factors including, but not limited to, changes in: (1) Management; (2) production facilities; (3) supplier relationships; and (4) customer base. See, e.g., Notice of Final Results of Changed Circumstances Antidumping Duty Administrative Review: Polychloroprene Rubber From Japan, 67 FR 58 (Jan. 2, 2002); Brass Sheet and Strip from Canada: Final Results of Antidumping Duty Administrative Review, 57 FR 20460, 20462 (May 13, 1992). While no single factor or combination of these factors will necessarily provide a dispositive indication of a successor-in-interest relationship, the Department will generally consider the new company to be the successor to the previous company if the new company's resulting operation is not materially dissimilar to that of its predecessor. See, e.g., Fresh and Chilled Atlantic Salmon from Norway; Final Results of Changed Circumstances Antidumping Duty Administrative Review, 64 FR 9979 (Mar. 1, 1999); Industrial Phosphoric Acid from Israel; Final Results of Changed Circumstances Review, 59 FR 6944 (Feb. 14, 1994). Thus, if the evidence demonstrates that, with respect to the production and sale of the subject merchandise, the new company operates as the same business entity as the former company, the Department will accord the new company the same antidumping treatment as its predecessor.

With regard to Frutesp, Louis Dreyfus claims that the production facilities and contractual relationships with suppliers and customers remained unchanged after Louis Dreyfus assumed control of this company. According to Louis Dreyfus, COINBRA-Frutesp and its assets have remained essentially the same as those of Frutesp for which the order was revoked. In addition, Louis Dreyfus states that changes in the corporate name and ownership are the only material aspects of COINBRA-Frutesp's business that have changed since the Department revoked the antidumping duty order with regard to Frutesp.

In this case, the Department finds that the information submitted by Louis Dreyfus provides sufficient evidence of changed circumstances to warrant a review to determine whether COINBRA-Frutesp is the successor-in-interest to Frutesp. Thus, in accordance with section 751(b)(1) of the Act, we are initiating a changed circumstances review based upon the information contained in Louis Dreyfus' submissions to determine whether the revocation of the order as to Frutesp should apply to merchandise manufactured and exported by COINBRA-Frutesp. Because it is the Department's practice to examine changes in management and customer base as part of its analysis in such a determination, and Louis Dreyfus has not addressed these factors, we are not conducting the changed circumstances review on an expedited basis.

The Department will publish in the Federal Register a notice of preliminary results of changed circumstances review, in accordance with 19 CFR 351.221(c)(3)(i) (2004), which will set forth the factual and legal conclusions upon which our preliminary results are based, and a description of any action proposed based on those results. Interested parties may submit comments for consideration in the Department's preliminary results not later than 60 days after publication of this notice. Responses to those comments may be submitted not later than 10 days following submission of the comments. All written comments must be submitted in accordance with 19 CFR 351.303 (2004), and must be served on all interested parties on the Department's service list in accordance with 19 CFR 351.303(f) (2004). The Department will also issue its final results of review within 270 days after the date on which the changed circumstances review is initiated, in accordance with 19 CFR 351.216(e) (2004), and will publish these results in the Federal Register.

The current requirement for a cash deposit of estimated antidumping duties on all subject merchandise will continue unless and until it is modified pursuant to the final results of this changed circumstances review.

This notice is in accordance with sections 751(b)(1) of the Act and 19 CFR 351.216 and 351.222 of the Department's regulations.

Dated: January 19, 2005.
Joseph A. Spetrini,
Acting Assistant Secretary for Import Administration.

[FR Doc. E5-314 Filed 1-26-05; 8:45 am]

BILLING CODE 3510-DS-S